DEPARTMENT OF HEALTH AND HUMAN SERVICES

National Institutes of Health

Center for Scientific Review; Amended Notice of Meeting

Notice is hereby given of a change in the meeting of the Center for Scientific Review Special Emphasis Panel, October 1, 2013, 12:00 a.m. to October 1, 2013, 5:00 p.m., National Institutes of Health, 6701 Rockledge Drive, Bethesda, MD, 20892 which was published in the Federal Register on September 3, 2013, 78 FR 54260.

The meeting will be held on November 26, 2013, from 12:00 p.m. to 3:30 p.m. The meeting location remains the same. The meeting is closed to the public.

Dated: October 24, 2013.
Michelle Trout,
Program Analyst. Office of Federal Advisory Committee Policy.

[FR Doc. 2013-25506 Filed 10-28-13; 8:45 am]

BILLING CODE 4140-01-P